DEPARTMENT OF COMMERCE

International Trade Administration

Civil Nuclear Trade Advisory Committee

AGENCY: International Trade Administration, Department of Commerce.

ACTION: Notice of an open meeting; cancellation.

SUMMARY: This notice sets forth the cancellation of a meeting of the Civil Nuclear Trade Advisory Committee (CINTAC). The meeting was cancelled due to members not yet being ready to discuss a proposed recommendation on civil nuclear financing.

DATES: The meeting scheduled for Wednesday, March 23, 2022 from 11:00 a.m. to 12:00 p.m. Eastern Daylight Time (EDT) was cancelled.

FOR FURTHER INFORMATION CONTACT: Mr. Jonathan Chesebro, Office of Energy & Environmental Industries, International Trade Administration (Phone: 202-482-1297; email: jonathan.chesebro@trade.gov).

Dated: April 6, 2022.
Man Cho,
Deputy Director, Office of Energy and Environmental Industries.

[FR Doc. 2022-07712 Filed 4-11-22; 8:45 am]

BILLING CODE 3510-DR-P